DEPARTMENT OF HOMELAND SECURITY

Bureau of Customs And Border Protection

Notice of Revocation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker license is canceled with prejudice.

Name | License # | Issuing port
A.S.A. Management Corp | 22391 | New York.

Dated: July 18, 2006.
Jayson P. Ahern,
Assistant Commissioner, Office of Field Operations.

[FR Doc. E6-11779 Filed 7-24-06; 8:45 am]

BILLING CODE 9111-14-P